ENVIRONMENTAL PROTECTION AGENCY

[EPA-R9-2021-05; FRL-10023-76-Region 9]

Industrial Waste Processing Site, Fresno, California; Notice of Proposed CERCLA Settlement Agreement and Order on Consent

AGENCY: Environmental Protection Agency (EPA).

ACTION: Notice; request for comment.

SUMMARY: In accordance with Section 122(i) of the Comprehensive Environmental Response, Compensation and Liability Act of 1980, as amended (CERCLA), notice is hereby given of a proposed administrative settlement with Pacific Tent & Awning (Pacific Tent), for payment of costs of investigation and remediation at the Industrial Waste Processing (IWP) Site located at 7140 North Harrison Street, Fresno, California. The Environmental Protection Agency (EPA) enters the settlement pursuant to Section 122(h)(1) of CERCLA. The settlement provides for Pacific Tent's payment of $21,000, plus interest, towards costs incurred by EPA and the United States in investigating and remediating contamination resulting from reclamation of solvents from printing operations, glycols from fluids used in natural gas dehydration, and lead solder and zinc from waste solder flux generated by the metal can manufacturing industry during IWP's operations at the Site in 1967-1981. The settlement includes a covenant not to sue pursuant to Sections 106 or 107(a) of CERCLA. For thirty (30) days following the date of publication of this Notice in the Federal Register, the Agency will receive written comments relating to the settlement. The Agency will consider all comments received and may modify or withdraw its consent to the settlement if comments received disclose facts or considerations that indicate the proposed settlement is inappropriate, improper, or inadequate. The Agency's response to any comments received will be available for public inspection at 75 Hawthorne Street, San Francisco, CA 94105.

DATES: Comments must be submitted on or before June 23, 2021.

ADDRESSES: The proposed settlement is available for public inspection at EPA Region IX, 75 Hawthorne Street, San Francisco, California. A copy of the proposed settlement may be obtained from David H. Kim, EPA Region IX, 75 Hawthorne Street, ORC-3, San Francisco, CA 94105, telephone number 415-972-3882. Comments should reference the IWP Site, Fresno, California and should be addressed to Mr. Kim at the above address.

FOR FURTHER INFORMATION CONTACT: David H. Kim, Assistant Regional Counsel (ORC-3), Office of Regional Counsel, U.S. EPA Region IX, 75 Hawthorne Street, San Francisco, CA 94105; phone: (415) 972-3882; fax: (417) 947-3570; email: kim.david@epa.gov.

Enrique Manzanilla,
Director, Superfund Division, U.S. EPA, Region IX.

[FR Doc. 2021-10892 Filed 5-21-21; 8:45 am]

BILLING CODE 6560-50-P